DEPARTMENT OF COMMERCE

International Trade Administration

[A-570-848]

Freshwater Crawfish Tail Meat From the People's Republic of China: Initiation of New Shipper Antidumping Review

AGENCY: Import Administration, International Trade Administration, Department of Commerce.

ACTION: Notice of initiation of new shipper antidumping review.

SUMMARY: The Department of Commerce (the Department) has received a request from North Supreme Seafood (Zhejiang) Co., Ltd. (North Supreme) and Shouzhou Huaxiang Foodstuffs Co., Ltd. (Shouzhou Huaxiang) to conduct new shipper reviews of the antidumping duty order on freshwater crawfish tail meat from the People's Republic of China (PRC). In accordance with section 751(a)(2)(B) of the Tariff Act of 1930, as amended (the Act), and 19 CFR 351.214(d), we are initiating this new shipper review.

EFFECTIVE DATE: November 8, 2001.

FOR FURTHER INFORMATION CONTACT: Holly Hawkins or Scott Lindsay, AD/CVD Enforcement, Import Administration, International Trade Administration, U.S. Department of Commerce, 14th Street and Constitution Avenue, NW., Washington, DC 20230; telephone: (202) 482-0414 or (202) 482-3782, respectively.

The Applicable Statute and Regulations

Unless otherwise indicated, all citations to the statute are references to the Tariff Act of 1930 (the Act). In addition, unless otherwise indicated, all citations to the Department's regulations are to the current regulations, codified at 19 CFR part 351 (2001).

Background

On September 15, 1997, the Department published in the Federal Register an antidumping duty order on freshwater crawfish tail meat from the PRC. See Notice of Amendment to Final Determination of Sales at Less Than Fair Value and Antidumping Duty Order: Freshwater Crawfish Tail Meat From the People's Republic of China, 62 FR 48218 (September 15, 1997). On September 18, 2001 and September 26, 2001, the Department received timely requests, in accordance with section 751(a)(2)(B) of the Act and 19 CFR 351.214(c), for new shipper reviews of this antidumping duty order which has a September anniversary date. The period of review (POR) is September 1, 2000 through August 31, 2001.

Initiation of Review

Pursuant to 19 CFR 351.214(b)(2)(i) and 19 CFR 351.214(b)(2)(iii)(A), in its September 18, 2001 request for review, North Supreme certified that it did not export the subject merchandise to the United States during the period of investigation (POI) and that it is not affiliated with any company which exported subject merchandise to the United States during the POI. Pursuant to 19 CFR 351.214(b)(2)(iii)(B), North Supreme further certified that its export activities are not controlled by the central government of the PRC.

Pursuant to 19 CFR 351.214(b)(2)(i) and 19 CFR 351.214(b)(2)(iii)(A), in its September 26, 2001 request for review, Shouzhou Huaxiang certified that it did not export the subject merchandise to the United States during the POI and that it is not affiliated with any company which exported subject merchandise to the United States during the POI. Pursuant to 19 CFR 351.214(b)(2)(iii)(B), Shouzhou Huaxiang further certified that its export activities are not controlled by the central government of the PRC. All of the above requests also included all documentation required under 19 CFR 351.214(b)(2)(iv).

In accordance with section 751(a)(2)(B) and 19 CFR 351.214(d), we are initiating new-shipper reviews of the antidumping duty order on freshwater crawfish tail meat from the PRC.

In accordance with 19 CFR 351.214(g)(1)(i)(A) of the Department's regulations, the POR for a new shipper review initiated in the month immediately following the anniversary month will be the twelve-month period immediately preceding the annual anniversary month. Therefore, the POR for these new shipper reviews is:

Antidumping duty proceeding | Period to be reviewed
Fresh Water Crawfish Tail Meat from the PRC, A-570-848:
North Supreme Seafood (Zhejiang) Co., Ltd | 09/01/00-08/31/01
Shouzhou Huaxiang Foodstuffs Co., Ltd | 09/01/00-08/31/01

Concurrent with publication of this notice and in accordance with 19 CFR 351.214(e), we will instruct the U.S. Customs Service to suspend liquidation of any unliquidated entries of the subject merchandise from the relevant exporter or producer, and to allow, at the option of the importer, the posting of a bond or security in lieu of a cash deposit for each entry of the merchandise exported by the companies listed above, until the completion of the review.

The interested parties must submit applications for disclosure under administrative protective order in accordance with 19 CFR 351.305 and 351.306.

This initiation and notice are in accordance with section 751(a)(2)(B) of the Act (19 U.S.C. 1675(a)(2)(B)) and 19 CFR 351.214 and 351.221(c)(1)(i).

Dated: November 1, 2001.
Joseph A. Spetrini,
Deputy Assistant Secretary, For Import Administration.

[FR Doc. 01-28092 Filed 11-7-01; 8:45 am]

BILLING CODE 3510-DS-P